DEPARTMENT OF JUSTICE

National Institute of Corrections

Solicitation for a Cooperative Agreement—Planning Awards for Children of Prisoners

AGENCY: National Institute of Corrections, Department of Justice.

ACTION: Solicitation for a Cooperative Agreement.

SUMMARY: This is one of five solicitations to address planning issues for children who have experienced parental incarceration. Three (3), 18-month planning awards, each for up to $100,000 each will be made to three private and/or nonprofit agencies in three different jurisdictions. The purpose of this solicitation is to assist these jurisdictions to develop a comprehensive plan for the delivery of services to a clearly identified target population of children/youth who have been traumatized or damaged as a result of parental incarceration. The goal of the planning project is to enhance opportunities for positive life experiences and outcomes for children/youth who have suffered parental separation as a result of incarceration. These awards will be given to those agencies that create or build on an existing collaborative planning process. All applications must include the appropriate Federal, State and/or local agency/agencies.

Background

The Department of Justice (DOJ), National Institute of Corrections (NIC), announces the availability of funds for fiscal year 2001 for five (5) solicitations to fund projects for children of incarcerated or formerly incarcerated parents. Congress appropriated $4 million to NIC “to work with cooperative agreements to fund private sector or not for profit groups that have effective, tested programs to help children of prisoners”. These cooperative agreements may be for up to three (3) years.

To prepare for this solicitation, NIC convened a Children of Prisoners planning meeting, inviting federal and state government, association, academic and private provider representatives. The goals of the two-day meeting were to: (1) Identify the problems and issues that children of prisoners or former prisoners face that put them at risk of potential future delinquency (2) identify the problems and greatest needs of incarcerated parents/caretakers of these children; (3) identify and describe evidence-based and promising approaches to support these children and prevent their future delinquency; and (4) describe and prioritize how the newly appropriated funds can best address these issues.

Based on this meeting, NIC staff is announcing the following five (5) solicitations:

1. Resource Center—Up to 41 million for a 36 month project will be awarded to one (1) organization or group (joint applications are encouraged) to provide training and technical assistance, develop a plan for a public awareness program, support and manage an advisory group, and develop and conduct, as appropriate, process and outcome evaluations with awardees.

2. Planning Awards—(This announcement) Three (3), 18-month planning awards, of up to $100,000 each will be made to three private or non profit agencies in three different jurisdictions. The purpose of this solicitation is to assist three (3) jurisdictions to develop a comprehensive plan for the delivery of services to a clearly identified target population of children/youth who have been traumatized or damaged as a result of parental incarceration. These awards will be given to agencies that create or build on an existing collaborative planning process. All applications must include the appropriate Federal, State and/or local agency/agencies.

3. Awards to Communities with High Crime and High Incarceration Rates—Up to $1.675 million will be awarded to three (3) to five (5) private and/or non profit agencies working with children living in communities with high crime and incarceration rates. The purpose is to develop three-year demonstration programs. Up to one year will be spent planning the programs, the second and third years will focus on program implementation and evaluation.

4. Children of Parents in Prison—Three-year demonstration awards to two (2) agencies that work with children of parents held in State or Federal prisons. A total of $500,000 will be available for these awards. One award will for $30,000 per year and one will be for $135,000 a year. Planning must be an integral part of the application.

5. Children of Parents in Jail—Three-year demonstration awards to two (2) agencies that work with children of parents in jail. a total of $500,000 will be available for these awards. One award will be for $30,000 per year and one will be for $135,000 a year. Planning must be an integral part of the application.

Applicants may apply to more than one solicitation.

Information on this population: According to Senate Report 106-404 from FY2001 DOJ appropriations bill, “* * * children of prisoners are six times more likely than other children to be incarcerated at some point in their lives * * *”. Yet, little research and few programs have targeted children of offenders.

The number of men and women confined in prisons and jails has increased in the 1990s from just under 1.2 million to 1.9 million. The Bureau of Justice Statistics in its August 2000 bulletin, “Incarcerated Parents and Their Children”, states that 721,500 State and Federal inmates are parents to nearly 1.5 million children under the age of 18, an increase of 500,000 children in the past 8 years. This means that 2.1% of all children in the United States have a parent in State or Federal prison. The number of children of parents in detention is not known, but half of all youth in custody have a parent or close relative who has been in jail.

Prior to prison admission, 64% of the women and 44% of the men lived with their children. Once incarcerated, 90% of the men indicated that at least one child lived with his/her mother; 28% of the women said the father was the child's care giver. One in five of these children was under 5 years of age, and the majority were less than 10 years old. Black children were nearly9 times more likely to have a parent in prison than white children, and Hispanic children were 3 times more likely than white children to have an imprisoned parent.

While the number of fathers in prison far outweighs the number of mothers, it is mostly the mothers who were primary care givers before incarceration. When fathers are incarcerated, the care giver usually becomes the mother; when the mother is confined, the care giver often becomes the child's grandparent or other relative. Three of four parents in State prisons reported a prior conviction compared to one out of three in Federal prisons. Many children, then, have experienced more than one parental separation.

Parental arrest and confinement lead to stress, trauma, stigmatization and separation problems for the children. These problems are coupled with existing problems that include poverty, violence, parental substance abuse, high crime environments, intrafamily abuse, abuse and neglect, multiple care givers and/or prior separations. As a result, these children often exhibit a broad variety of behavioral, emotional, health and educational problems that are compounded by the pain of separation.

Denise Johnston from the Center for Children of Incarcerated parents in California found that early childhood (between the ages of 2-6) may be the most damaging time for parent-child separation as the child remembers the trauma but cannot adjust to it without help. If these children do not receive assistance or cannot process the separation for themselves, their behaviors can become increasingly maladaptive as they grow up, leading to strong negative feelings about the criminal justice and welfare systems, delinquency, poor school performance and other antisocial behaviors.

There are a handful of programs around the country that work with these children. The Child Welfare League of America has published, “Working with Children and Families Separated by Incarceration”, a handbook for child welfare agencies and staff. There is also a major initiative funded by the U.S. Department of Health and Human Services, the goals of which are to: (1) Develop a research and practice baseline on the effects of incarceration on prisoners and their children, families and communities; (2) document the intersection of populations within the criminal justice system and populations served by HHS programs; (3) determine unmet health and human services needs of offenders and their families left behind in the community; and (4) ensure that HHS takes into account the effects of incarceration on the children and families of inmates. HHS has commissioned a literature review and nine papers to explore what is known and knowable about these issues.

Statement of Principles: NIC requires that the planning process will adhere to the following principles:

1. Be child focused as the goal is to help the child become stable and self assured with a strong, positive sense of self.

2. Explain which stage(s) of child development will be addressed. Programs will focus on infancy, early or middle childhood, and/or early or late adolescence.

3. Ensure that programs have a sound theoretical basis.

4. Incorporate what is known about the crisis issues around separation of the child from his/her parent.

5. Improve the child/family relationship, where appropriate, by creating a family-friendly planning environment and subsequent program delivery.

6. Add to the current limited body of research on these children.

7. Include a “collaborative” planning group that will continue into the service delivery phase. The “collaborative” will include the lead agency, appropriate governmental agencies, and others as appropriate, such as private providers, advocacy groups, academic institutions, and public schools.

Resource Assistance: Once an award has been made for the Resource Center solicitation, awardees will receive training and technical assistance, as needed, from Resource Center staff. The length and scope of this assistance will depend on the awardees' specific interests. The Resource Center will also provide assistance in developing and implementing the outcome evaluations that will accompany each cooperative agreement and will budget for this assistance. The Resource Center will be responsible for developing a data collection plan for the outcome evaluations. Awardees of this solicitation will be responsible for collecting the data. Awardees will also develop and conduct their process evaluation.

Goals and Objectives of This Solicitation: The purpose of these cooperative agreements is to assist three (3) jurisdictions to develop a comprehensive plan for delivery of services to a clearly identified target population of children/youth who have been traumatized or damaged as a result of parental incarceration. The goal of the planning project is to enhance opportunities for positive life experiences and outcomes for children/youth who have suffered parental separation as a result of incarceration. The objectives are to:

1. Undertake a collaborative planning process with the relevant government and private/community agencies which will result in:

a. The development of a comprehensive plan for the delivery of services to children of incarcerated or formerly incarcerated parents and

b. A final report to NIC that describes the results of the process evaluation and provides a summary of the comprehensive plan, the implementation timeliness and proposed funding strategies.

2. Demonstrate how additional funds will be leveraged to enhance the planning project and ensure its continuation into the program delivery stage.

3. Identify one or more child development stages on which the project will focus.

4. Demonstrate cultural sensitivity in planning and program design.

Application Requirements: The applicant must:

1. Identify the specific agencies that will be part of the planning collaborative project. Provide the name, position and level of responsibility for each proposed member of the planning group. Explain the reasons for each agency's inclusion. Include a letter of support from each government agency and from at least half of the remaining agencies. Each agency's representative should have sufficient authority to make decisions for his/her respective agency.

2. Provide a statement of the problems children/youth of incarcerated parents face in your jurisdiction.

3. Identify the goals and objectives of the planning process.

4. Describe the project methodology, including the planning collaborative's proposed tasks, resource needs, and the roles and responsibilities of the lead agency and collaborative agencies.

5. Describe how implementation funds will be secured, including any commitment letters that have been obtained during the proposal development process.

6. Describe the goals of the process evaluation and your approach to developing and conducting the evaluation.

7. Provide a budget summary and budget narrative for the full 18 months, including budgeting for the process evaluation.

8. Prepare a final report that includes, but is not limited to, the process evaluation, proposed project design, implementation timeline and funding strategies.

9. Applications are limited to 25 double spaced pages using a 12 point font, not including letters of support, resumes, other supporting documents and SF-424 forms. Provide 6 copies of the application, including one that is not bound. One unbound copy must be signed in blue ink by the agency administrator or chief executive officer.

Authority: Public Law 93-415.

Funds Available: There is funding for three (3) cooperative agreement planning projects. Applicant agencies may be any private or non-profit organization working in close collaboration with the appropriate government agencies. Each award will be up to $100,000 for an 18 month project. Applicants are encouraged to submit joint applications with other agencies in their jurisdictions. At this time, there are no plans for additional funding in the future.

Deadline for Receipt of Applications: Applications must be received at the NIC offices by 4 p.m. EDT on August 2, 2001. They should be addressed to: Director, National Institute of Corrections, 320 First Street, NW, Room 5007, Washington, DC 20534. Hand delivered applications may be brought to 500 First Street, NW, Washington, DC 20534. The front desk will call Germaine Jefferson or Bobbi Tinsley at 202-307-3106 ext. 0 for pickup.

Addresses and Further Information: Requests for the application kit, which consists of copies of this announcement and the required forms, should be downloaded from the NIC website at http://www.nicic.org Click on “Cooperative Agreements”.

All technical and/or programmatic questions concerning this announcement should be directed to Mary Whitaker at the above address or by calling 800-995-6423, extension 40378, or 202-514-0378 or by e-mail via mwhitaker@bop.gov

All specific questions regarding the application process should be directed to Judy Evans, Cooperative Agreement Control Office, National Institute of Corrections, 320 First Street, NW, Room 5007, Washington, DC 20534 or by calling 800-995-6423, ext. 44222 or 202-307-3106, extension 44222 or by e-mail via jevens@bop.gov

Eligible Applicants: Applicants are private and not for profit agencies. Public corrections and human services (government) agencies are not eligible to apply for these funds. Appropriate government agencies, e.g., juvenile detention centers and probation agencies, jails, prisons, community based facilities, and private juvenile and adult correctional facilities, must be included in the planning process and must submit letters of support.

Review Considerations: Applications will be reviewed by a three- to five-member team using a peer review process.

Number of Awards: Three (3).

NIC Application Number: NIC application number: 01K61. This number should appear as a reference line in the cover letter and also in box 11 of Standard Form 424. It must also appear on the outside of the package in which the application arrives at NIC.

Catalog of Federal Domestic Assistance Number: 16.602. This application is not subject to Executive Order 12372.

Dated: June 18, 2001.
Morris L. Thigpen,
Director, National Institute of Corrections.

[FR Doc. 01-15689 Filed 6-21-01; 8:45 am]

BILLING CODE 4410-36-M